ENVIRONMENTAL PROTECTION AGENCY

40 CFR Part 52

[TX 28-1-7382b; FRL-7008-2]

Approval and Promulgation of Implementation Plans; Texas; Houston/Galveston Ozone Nonattainment Area Vehicle Miles Traveled Offset Plan

AGENCY: Environmental Protection Agency (EPA).

ACTION: Proposed rule.

SUMMARY: This action proposes to approve the Houston/Galveston Ozone Nonattainment Area (HGA) Vehicle Miles Traveled (VMT) Offset State Implementation Plan (SIP) revision submitted by the Governor of Texas on August 25, 1997 and the revision submitted on May 17, 2000. In the “Rules and Regulations” section of this Federal Register, EPA is approving the State's SIP revisions as a direct final rule without prior proposal because the Agency views this as a noncontroversial revision and anticipates no adverse comments. The rationale for the approval is set forth in the direct final rule. If no adverse comments are received in response to this proposed rule, no further activity is contemplated in relation to this rule. If EPA receives adverse comments, the direct final rule will be withdrawn and it will not take effect, and all public comments received during the 30-day comment period set forth below will be addressed in a subsequent final rule based on this proposed rule. The EPA will not institute a second comment period on this action. Any parties interested in commenting must do so at this time.

DATES: Comments must be received in writing by August 9, 2001.

ADDRESSES: Written comments on this action should be addressed to Thomas H. Diggs, Chief, Air Planning Section (6PD-L), at the EPA Region 6 office listed below. Copies of documents relevant to this action are available for inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Ms. Brooke M. Ivener, Air Planning Section (6PD-L), EPA Region 6, telephone (214) 665-7362.

SUPPLEMENTARY INFORMATION: This document concerns the HGA VMT Offset SIP. For additional information, see the direct final rule which is published in the “Rules and Regulations” section of this Federal Register.

Authority: 42 U.S.C. 7401 et seq.

Dated: June 13, 2001.
Jerry Clifford,
Acting Regional Administrator, Region 6.

[FR Doc. 01-16807 Filed 7-9-01; 8:45 am]

BILLING CODE 6560-50-P